DEPARTMENT OF ENERGY

Federal Energy Regulatory Commission

[Docket No. ER06-1218-000]

PJM Interconnection, LLC; Notice of Extension of Time

July 24, 2006.

On July 24, 2006, Long Island Power Authority and its operating subsidiary, LIPA (collectively “LIPA”) filed a motion for an extension of time to file motions to intervene and comments in response to the Commission's Notice of Filing issued July 11, 2006, in the above-docketed proceeding. LIPA requests that an extension be granted to allow LIPA to review the Commission's Final Rule issued July 20, 2006, in Docket No. RM06-8-000 ¹ and to provide substantive comments in this proceeding based on its review of those new regulations.

¹ Long-Term Firm Transmission Rights in Organized Electricity Markets, 116 FERC ¶ 61,077 (2006).

Upon consideration, notice is hereby given that an extension of time to file motions to intervene and comments is granted to and including August 7, 2006.

Magalie R. Salas,
Secretary.

[FR Doc. E6-12245 Filed 7-28-06; 8:45 am]

BILLING CODE 6717-01-P